DEPARTMENT OF AGRICULTURE

Food and Nutrition Service

Agency Information Collection Activities: Proposed Collection Comment Request—Supplemental Nutritional Assistance Program Education (SNAP Ed) Connection Resource Sharing Form

AGENCY: Food and Nutrition Service (FNS), USDA.

ACTION: Notice and request for comments.

SUMMARY: In accordance with the Paperwork Reduction Act of 1995 this notice announces the Food and Nutrition Service's intent to request approval to collect information via an online form. This is a revision of a currently approved collection for the Supplemental Nutrition Assistance Program (SNAP) Forms: FNS-0625 Resource Sharing Form. This form update will help improve the submission process by clarifying the information requested for certain fields, thus providing data that is accurate and beneficial to stakeholders using the resource. These updates will also align with changes to the SNAP-Ed Program in the areas of evaluation and impact.

This voluntary form is used by SNAP Education (SNAP-Ed) personnel and nutrition education material developers to submit materials for review and possible inclusion in the SNAP-Ed Library (formerly known as the SNAP-Ed Connection Resource Finder). The following materials may be submitted: obesity prevention education materials targeting Supplemental Nutrition Assistance Program (SNAP)-eligible persons; materials related to the development, implementation, administration and evaluation of SNAP Education (SNAP-Ed) programs; reports or other materials that demonstrate the effectiveness of SNAP-Ed funded programs; other materials developed by SNAP-Ed funded programs. The SNAP-Ed Library may be used by SNAP-Ed personnel and others to easily search for resources and to learn about the work of other SNAP-Ed programs.

Revisions to this form will not add additional burden to users.

Comments: Comments are invited on (a) whether the proposed collection of information is necessary for the proper performance of agency functions, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

DATES: Comments on this notice must be received by April 19, 2021 to be assured of consideration.

ADDRESSES: Comments may be sent to Usha Kalro, Food and Nutrition Service, Supplemental Nutrition Assistance Program, Program Administration and Accountability Division, SNAP-Ed Connection, 1320 Braddock Place, 5th Floor, Alexandria, VA 22314, telephone (703) 305-2397. Submit electronic comments to snap-edconnection@usda.gov; comments will also be accepted through the Federal eRulemaking Portal. Go to http://www.regulations.gov and follow the online instructions for submitting comments electronically.

FOR FURTHER INFORMATION CONTACT: Requests for additional information should be directed to Usha Kalro at usha.kalro@usda.gov.

SUPPLEMENTARY INFORMATION:

Title: SNAP-Ed Connection Resource Sharing Form.

Form Number: FNS-889.

OMB Number: 0584-0625.

Expiration Date: 4/30/2021.

Type of Request: Revision of currently approved data collection.

Abstract: In 2001, the United States Department of Agriculture's (USDA) Food and Nutrition Service (FNS) established the Food Stamp Nutrition Connection to improve access to Food Stamp Program Education resources. In 2008, the website was renamed the SNAP-Ed Connection. The website is developed and maintained at the FNS. The SNAP-Ed Connection is a resource website for SNAP-Ed administrators and educators. SNAP-Ed personnel use the SNAP-Ed Connection website to locate curricula, participant materials, nutrition research, administrative documents, and information regarding SNAP-Ed program development, implementation and evaluation. This resource website helps SNAP-Ed personnel find the tools and information they need to implement high-quality evidence-based obesity prevention programs.

The SNAP-Ed Library is an online database of SNAP-Ed-related materials. The SNAP-Ed Connection Resource Sharing Form gives SNAP-Ed personnel, as well as those who develop nutrition education materials, the opportunity to voluntarily share information about resources that can be used to administer, develop, implement, evaluate or showcase SNAP-Ed programs. Information collected via this form enables the SNAP-Ed Connection staff to review materials for possible inclusion in the SNAP-Ed Library. SNAP-Ed personnel and other interested parties then search this database via the SNAP-Ed Connection website https://snaped.fns.usda.gov to locate materials of interest. By using this database, SNAP-Ed-funded programs can share resources with each other, reduce duplication of efforts, and improve program quality. SNAP-Ed-funded programs can also learn about useful nutrition education materials created by other organizations.

Users may complete the form online. Respondents will provide contact information, ordering information, and information about the resource they are submitting.

Revisions to the FNS-889 are not yet finalized, however, the following updates are projected:

Removal of the question on Race and Ethnicity

Addition of Data element: Addition of the terms “Required Field” to the Year the material was developed section.

Addition of Data element: Adding the term “website” to clarify instructions for multiple links in the website section.

Addition of Data element: Addition of language “please add any additional information about cost” to the Cost section.

Addition of Data element: Addition of a Yes/No question: Is this resource part of the SNAP-Ed Toolkit? to the Toolkit section.

Addition of Data element: Addition of two fields—“Emerging” and “N/A” to the Evidence section.

Addition of Data element: Addition of language ” summarize evaluation efforts and results here” to the Evaluation text box section.

Addition of Data element: Addition of the word “Related” to the Research Article field section.

Addition of Data element: Addition of the word “Article” to the “Add Another” button section.

Addition of Data element: Addition of “Select all that apply” to the Audience, Settings and Format Sections.

Addition of Data element: Addition of a field “Remote/at-home/virtual” to the Setting section.

Addition of Data element: Addition of a field “Remote/Virtual Leraning” to the Format section.

Addition of Data element: Addition of “Adding option for “other” with write in box” in the Language section.

Affected Public: 14 State Agencies, 10 Business, and 1 Federal Government (Respondents are SNAP-Ed instructors and others educators who develop nutrition education materials).

Estimated Number of Respondents: 25.

Estimated Number of Responses per Respondent: 4.44.

Estimated Total Annual Response: 111.

Estimated Time per Response: 0.167 (10 minutes).

Estimated Total Annual Burden on Respondents: 18.54 (rounded up to 19 burden hours).

Respondent category | Instruments | Number of respondents | Frequency of response | Total annual responses | Hours per response | Annual burden (hours)
State, Local or Tribal Agencies | SNAP-Ed Connection Resource Sharing Form | 14 | 5 | 70 | 0.167 | 11.7
Business-for-not-for-profit | SNAP-Ed Connection Resource Sharing Form | 10 | 4 | 40 | 0.167 | 6.68
Federal Government (such as CDC) | SNAP-Ed Connection Resource Sharing Form | 1 | 1 | 1 | 0.167 | 0.167
Total |  | 25 | 4.440 | 111 | 0.167 | 18.54

Cindy Long,
Acting Administrator, Food and Nutrition Service.

[FR Doc. 2021-03067 Filed 2-12-21; 8:45 am]

BILLING CODE 3410-30-P